DEPARTMENT OF COMMERCE

National Oceanic and Atmospheric Administration

RIN 0648-XL37

Fisheries of the South Atlantic; South Atlantic Fishery Management Council; Public Meeting

AGENCY: National Marine Fisheries Service (NMFS), National Oceanic and Atmospheric Administration (NOAA), Commerce.

ACTION: Notice of a joint meeting of the South Atlantic Fishery Management Council's Habitat and Environmental Protection Advisory Panel and Coral Advisory Panel

SUMMARY: The South Atlantic Fishery Management Council will hold a joint meeting of its Habitat and Environmental Protection Advisory Panel and Coral Advisory Panel in Charleston, SC. See SUPPLEMENTARY INFORMATION.

DATES: The joint meeting will take place November 17, 2008. The Panels will meet individually on November 18 and 19, 2008. See SUPPLEMENTARY INFORMATION for specific dates and times.

ADDRESSES: The meetings will be held at the Charleston Marriott Hotel, 170 Lockwood Boulevard, Charleston, SC; telephone: (800) 968-3569 or (843) 723-3000; fax: (843) 723-0276.

Council address: South Atlantic Fishery Management Council, 4055 Faber Place Drive, Suite 201, N. Charleston, SC 29405

FOR FURTHER INFORMATION CONTACT: Kim Iverson, Public Information Officer; telephone: (843) 571-4366 or toll free: (866) SAFMC-10; fax: (843) 769-4520; email: kim.iverson@safmc.net.

SUPPLEMENTARY INFORMATION: Members of the Habitat Advisory Panel and Coral Advisory Panel will meet jointly from 1:30 p.m.-5:30 p.m. on November 17, 2008. The Habitat AP and Coral AP will reconvene individually and meet concurrently from 8:30 a.m.-5 p.m. on November 18, 2008, and the Coral Advisory Panel will reconvene and meet from 8:30 a.m.-12 noon on November 19, 2008.

The Advisory Panels will provide input and recommendations on the public hearing drafts of the Fishery Ecosystem Plan (FEP) and the Comprehensive Ecosystem-Based Amendment (CE-BA), updates from NOAA Fisheries' Habitat Conservation on proposed non-fishing activities that have the potential to impact habitat, and an update on live rock aquaculture activities in the South Atlantic region.

The development of a South Atlantic Council FEP provides the first regional opportunity to compile and review available habitat, biological, social, and economic fishery and resource information for fisheries in the South Atlantic Bight ecosystem and serves as a source document for the CE-BA.

Actions in the Comprehensive Ecosystem-based Amendment include: Establishment of deepwater Coral Habitat Areas of Particular Concerns (CHAPCs), establishment of a Shrimp Fishery Access Area for deepwater shrimp fisheries within the proposed CHAPCs, designation of Allowable Golden Crab Fishing Areas within the proposed CHAPCs where golden crab traps can continue to be used, a monitoring requirement for the golden crab fishery using available tools such as Vessel Monitoring System technology or electronic logbooks, and non-regulatory action addressing compliance with the spatial presentation requirements in the Essential Fish Habitat (EFH) Final Rule.

Agenda items for the Coral AP meeting include: discussion and recommendations regarding coral management issues to include in Comprehensive Ecosystem-based Amendment 2, the Deep-Sea Coral Research and Technology Program Draft Strategic Plan being developed by NOAA's National Undersea Research Program (NURP), NOAA's Coral Reef Conservation Program, and coral research priorities for 2009-10. The Coral AP will also receive updates and presentations on coral issues relevant to the South Atlantic region.

The Habitat and Environmental Protection AP meeting will involve four sessions as follows:

Session 1: Panel review and discussion of ecosystem interactions with a focus on predator prey relationships for managed species, present management authority and future management considerations;

Session 2: Panel review and discussion of habitat mapping and characterization as presented in the Councils' Regional Habitat and Ecosystem Internet Map Server and through regional programs including but limited to Southeast Area Monitoring and Assessment Program (SEAMAP), the Southeast Coastal Ocean Observing Regional Association (SECOORA), Southeast Aquatic Resource Partnership (SARP), the North Carolina Coastal Habitat Protection Plan (CHPPs) and the Southeast Partnership for Planning and Sustainability (SERPASS);

Session 3: Panel member review and discussion of place-based management in the region including but not limited to management in Grays' Reef National Marine Sanctuary and existing and proposed South Atlantic Council area management;

Session 4: Panel review and discussion of Habitat Policies and potential impacts from individual proposed permits.

Special Accommodations

These meetings are physically accessible to people with disabilities. Requests for auxiliary aids should be directed to the council office (see ADDRESSES) 3 days prior to the meeting.

Note: The times and sequence specified in this agenda are subject to change.

Dated: October 16, 2008.
Tracey L. Thompson,
Acting Director, Office of Sustainable Fisheries, National Marine Fisheries Service.

[FR Doc. E8-25011 Filed 10-20-08; 8:45 am]

BILLING CODE 3510-22-S